INTERNATIONAL TRADE COMMISSION

[Investigation Nos. 701-TA-442-443 and 731-TA-1095-1097 (Review)]

Certain Lined Paper School Supplies From China, India, and Indonesia

Determination

On the basis of the record ¹ developed in the subject five-year reviews, the United States International Trade Commission (Commission) determines, pursuant to section 751(c) of the Tariff Act of 1930 (19 U.S.C. 1675(c)), that revocation of the countervailing duty order on certain lined paper school supplies from India and the antidumping duty orders on certain lined paper school supplies from China and India would be likely to lead to continuation or recurrence of material injury to an industry in the United States within a reasonably foreseeable time.² The Commission also determines that revocation of the countervailing duty order and antidumping duty order on certain lined paper school supplies from Indonesia would not be likely to lead to continuation or recurrence of material injury to an industry in the United States within a reasonably foreseeable time.³

¹ The record is defined in sec. 207.2(f) of the Commission's Rules of Practice and Procedure (19 CFR 207.2(f)).

² Commissioners Okun, Pearson, and Johanson dissent with respect to India.

³ Chairman Williamson dissenting.

Background

The Commission instituted these reviews on August 1, 2011 (76 FR 45851) and determined on November 4, 2011 that it would conduct full reviews (76 FR 72213, November 22, 2011). Notice of the scheduling of the Commission's reviews and of a public hearing to be held in connection therewith was given by posting copies of the notice in the Office of the Secretary, U.S. International Trade Commission, Washington, DC, and by publishing the notice in the Federal Register on February 1, 2012 (77 FR 5055). The hearing was held in Washington, DC, on June 12, 2012, and all persons who requested the opportunity were permitted to appear in person or by counsel.

The Commission transmitted its determinations in these reviews to the Secretary of Commerce on August 17, 2012. The views of the Commission are contained in USITC Publication 4344 (August 2012), entitled Certain Lined Paper School Supplies from China, India, and Indonesia: Investigation Nos. 701-TA-442-443 and 731-TA-1095-1097 (Review).

Issued: August 20, 2012.
By order of the Commission.
Lisa R. Barton,
Acting Secretary to the Commission.

[FR Doc. 2012-20834 Filed 8-23-12; 8:45 am]

BILLING CODE 7020-02-P